DEPARTMENT OF DEFENSE

Office of the Secretary

[Transmittal No. 24-55]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-55, Policy Justification, and Sensitivity of Technology.

Dated: November 13, 2025.
Aaron T. Siegel,
Alternate OSD Federal Register Liaison Officer, Department of Defense.

BILLING CODE 6001-FR-P

BILLING CODE 6001-FR-C

Transmittal No. 24-55

Notice of Proposed Issuance of Letter of Offer Pursuant to Section 36(b)(1) of the Arms Export Control Act, as amended

(i) Prospective Purchaser: Government of the Netherlands

(ii) Total Estimated Value:

Major Defense Equipment * | $144 million
Other | $180 million
TOTAL | $224 million

(iii) Description and Quantity or Quantities of Articles or Services under Consideration for Purchase: The Government of the Netherlands has requested to buy new production PATRIOT M903 launching stations (LS), as well as equipment and services to upgrade existing M901 LS to the M903 LS configuration. These combined potential sales would include:

Major Defense Equipment (MDE):

Two (2) PATRIOT M903 launching stations (LS)

Non-MDE:

LS modification kits; PATRIOT Advanced Capability-3 (PAC-3) Missile Segment Enhancement (MSE) launcher conversion kits; LS heater controllers; shorting plug kits; PATRIOT automated logistics system kits; concurrent spare parts; U.S. Government and contractor engineering, technical, logistics, and fielding support services; and other related elements of logistics and program support.

(iv) Military Department: Army (NE-B-YBH, NE-B-YBE)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 29, 2024

* as defined in Section 47(6) of the Arms Export Control Act.

POLICY JUSTIFICATION

The Netherlands—PATRIOT M903 Launching Stations New Buy and Upgrades

The Government of the Netherlands has requested to buy two (2) new production PATRIOT M903 launching stations (LS) and equipment and services to upgrade existing M901 LS to the M903 LS configuration. The following non-MDE is also included: LS modification kits; PATRIOT Advanced Capability-3 (PAC-3) Missile Segment Enhancement (MSE) launcher conversion kits; LS heater controllers; shorting plug kits; PATRIOT automated logistics system kits; concurrent spare parts; U.S. Government and contractor engineering, technical, logistics, and fielding support services; and other related elements of logistics and program support. The estimated total cost is $224 million.

This proposed sale will support the foreign policy goals and national security objectives of the United States by improving the security of a NATO Ally that is a force for political stability and economic progress in Europe.

The proposed sale will improve the Netherlands' missile defense capability to meet current and future enemy threats. The Netherlands will use the enhanced capability to strengthen its homeland defense, deter regional threats, and provide direct support to coalition and security cooperation efforts. The Netherlands will have no difficulty absorbing this equipment into its armed forces.

The proposed sale of this equipment and support will not alter the basic military balance in the region.

The principal contractors are Lockheed-Martin Missiles and Fire Control, located in Grand Prairie, TX, and RTX Corporation, located in Arlington, VA. The purchaser typically requests offsets. Any offset agreement will be defined in negotiations between the purchaser and the contractor(s).

Implementation of this proposed sale will not require the assignment of any additional U.S. Government or contractor representatives to the Netherlands.

There will be no adverse impact on U.S. defense readiness as a result of this proposed sale.

Transmittal No. 24-55

Notice of Proposed Issuance of Letter of Offer Pursuant to Section 36(b)(1) of the Arms Export Control Act

Annex

Item No. vii

(vii) Sensitivity of Technology:

1. PATRIOT missiles are both transported on and launched from launching stations (LS). All new LSs are M903 configuration, which is capable of launching the entire family of PATRIOT missiles.

2. The highest level of classification of defense articles, components, and services included in this potential sale is CONFIDENTIAL.

3. If a technologically advanced adversary were to obtain knowledge of the specific hardware and software elements, the information could be used to develop countermeasures that might reduce weapon system effectiveness or be used in the development of a system with similar or advanced capabilities.

4. A determination has been made that the Government of the Netherlands can provide substantially the same degree of protection for the technology being released as the U.S. Government. This potential sale is necessary in furtherance of the U.S. foreign policy and national security objectives as outlined in the Policy Justification.

5. All defense articles and services listed in this transmittal have been authorized for release and export to the Government of the Netherlands.

[FR Doc. 2025-20077 Filed 11-17-25; 8:45 am]

BILLING CODE 6001-FR-P